DEPARTMENT OF COMMERCE

Bureau of Industry and Security

15 CFR Part 744

Control Policy: End-User and End-Use Based

CFR Correction

This rule is being published by the Office of the Federal Register to correct an editorial or technical error that appeared in the most recent annual revision of the Code of Federal Regulations.

In Title 15 of the Code of Federal Regulations, Parts 300 to 799, revised as of January 1, 2022, in supplement no. 4 to part 744, in the table under “RUSSIA”, revise the entry for “Kaliningradnefteprodukt OOO” to read as follows:

Supplement No. 4 to Part 744—Entity List
Country | Entity | License requirement | License review policy | Federal Register citation
* * * * * * *
RUSSIA | * * * * * *
| Kaliningradnefteprodukt OOO, a.k.a., the following three aliases: —Kaliningradnefteprodukt LLC; —Limited Liability Company Kaliningradnefteproduct; and —LLC Kaliningradnefteproduct | For all items subject to the EAR when used in projects specified in § 746.5 of the EAR | Presumption of denial | 83 FR 6952, 2/16/18. 83 FR 12479, 3/22/18.
| 22-b Komsomolskaya Ulitsa, Central District, Kaliningrad, Russia.
* * * * * * *

[FR Doc. 2022-11614 Filed 5-31-22; 8:45 am]

BILLING CODE 099-10-P